ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plans previously submitted by Alaska, Florida, Minnesota, New Jersey, Nevada, Oregon, and South Dakota.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates.

The revised State plans from Florida, New Jersey, Oregon, South Dakota, Nevada, and Alaska address material changes in the respective budgets of the previously submitted State plans. South Dakota and New Jersey submitted certifications under HAVA section 251(b)(2) allowing the State to use requirements payments for activities other than meeting the requirements of Title III. Minnesota and Oregon have provided updates to how the states plan to meet the Title III requirements, including implementation of the HAVA section 301 voting system standards and the HAVA section 303 statewide voter registration list.

In accordance with HAVA section 254(a)(12), all the State plans submitted for publication provide information on how the respective State succeeded in carrying out its previous State plan. The States all confirm that these material changes to their respective State plans were developed and submitted to public comment in accordance with HAVA sections 254(a)(11), 255, and 256.

Upon the expiration of thirty days from April 25, 2008, the States are eligible to implement the material changes addressed in the plans that are published herein, in accordance with HAVA section 254(a)(11)(C).

EAC wishes to acknowledge the effort that went into revising this State plan and encourages further public comment, in writing, to the State election official listed below.

Chief State Election Officials

Ms. Gail M. Fenumiai, Director, Alaska State Division of Elections, 240 Main Street, Suite 400, P.O. Box 110017, Juneau, Alaska 99811-0017, Phone: (907) 465-4611, Fax: (907) 465-3203

The Honorable Kurt Browning, Secretary of State, Department of State, R.A. Gray Building, Room 316, 500 South Bronough Street, Tallahassee, Florida 32399-0250, Phone: (850) 245-6500, Fax: (850) 245-6125, E-mail: secretaryofstate@dos.state.fl.us

The Honorable Mark Ritchie, Secretary of State, 180 State Office Building, 100 Martin Luther King Blvd., St. Paul, Minnesota 55155-1299, Phone: (651) 201-1324, Fax: (651) 215-0682

Ms. Donna Kelly, Assistant Attorney General, Office of the Attorney General, Department of Law and Public Safety, Division of Law, 25 Market Street, P.O. Box 112, Trenton, New Jersey 08625-0112, Phone: (609) 599-6877, Fax: (609) 292-0690

Mr. Matthew M. Griffin, Deputy Secretary for Elections, Office of the Secretary of State, 101 N. Carson Street, Suite 3, Carson City, Nevada 89701-4786, Phone: (775) 684-5708, Fax: (775) 684-5725

The Honorable Bill Bradbury, Secretary of State, 136 State Capitol, Salem, Oregon 97310-0722, Phone: (503) 986-1523, Fax: (503) 986-1616

The Honorable Chris Nelson, Secretary of State, State Capitol, Suite 204, 500 East Capitol Avenue, Pierre, South Dakota 57501-5070, Phone: (605) 773-3537, Fax: (605) 773-6580, E-mail: sdsos@state.sd.us

Thank you for your interest in improving the voting process in America.

Dated: April 9, 2008.
Rosemary Rodriguez,
Chair, U.S. Election Assistance Commission.

BILLING CODE 6820-KF-P

[FR Doc. E8-8335 Filed 4-24-08; 8:45 am]

BILLING CODE 6820-KF-C